DEPARTMENT OF THE INTERIOR

Bureau of Land Management

[OR-958-1430-ET; HAG01-0002; OR-55528]

Proposed Withdrawal and Opportunity for Public Meeting; Oregon

AGENCY: Bureau of Land Management, Interior.

ACTION: Notice.

SUMMARY: The Bureau of Land Management proposes to withdraw 2,637.81 acres of public lands, and approximately 560 acres of non-Federal land, if acquired, to protect the natural and recreational values of the North Fork Hunter Creek Area of Critical Environmental Concern and the Hunter Creek Bog Area of Critical Environmental Concern. This notice closes the public lands for up to 2 years from location and entry from the mining laws. The public lands will remain open to the mineral leasing laws.

EFFECTIVE DATE: Comments and requests for a public meeting must be received by January 10, 2001.

ADDRESSES: Comments and meetings requests should be sent to the Oregon/Washington State Director, BLM, P.O. Box 2965, Portland, Oregon 97208-2965.

FOR FURTHER INFORMATION CONTACT: Allison O'Brien, BLM Oregon/Washington State Office, 503-952-6171.

SUPPLEMENTARY INFORMATION: On October 3, 2000, a petition/application was approved allowing the Bureau of Land Management to file an application to withdraw the following described public lands and non-Federal lands from entry and location under the United States mining laws (30 U.S.C. Ch. 2 (1994)), subject to valid existing rights:

Willamette Meridian

Public Lands

T. 37 S., R. 14 W.,

Sec. 1, lots 1 to 4, inclusive, S½N½, NW¼SW¼, E½SW¼, and SE¼;

Sec. 2, NE¼ and E½SE¼;

Sec. 11, E½;

Sec. 12, NE¼, E½NW¼, SW¼SW¼, E½SW¼, and SE¼;

Sec. 13, N½N½;

Sec. 14, NE¼NE¼ and SE¼NW¼;

Sec. 24, NE¼NE¼, S½NE¼, NW¼NW¼, S½NW¼, SW¼, and SE¼.

The areas described aggregate approximately 2,637.81 acres in Curry County.

Non-Federal Lands:

T. 37 S., R. 14 W.,

Sec. 1, SW¼SW¼;

Sec. 12, W½NW¼ and NW¼SW¼;

Sec. 13, S½N½ and SW¼;

Sec. 24, NE¼NW¼ and NW¼NE¼.

The areas described aggregate approximately 560 acres in Curry County.

The purpose of the withdrawal would be to protect, conserve, and enhance special status species (i.e., threatened, endangered, and other classifications), natural systems/plant communities, fish and wildlife habitat, known historical and cultural resources, public demand recreational values, and the substantial investment of Federal funds within the North Fork Hunter Creek and Hunter Creek Bog Area of Critical Environmental Concern (ACEC) areas.

For a period of 91 days from the date of publication of this notice, all persons who wish to submit comments, suggestions, or objections in connection with the proposed withdrawal may present their views in writing to the State Director at the address indicated above.

Notice is hereby given that an opportunity for a public meeting is afforded in connection with the proposed action. All interested parties who desire a public meeting for the purpose of being heard on the proposed action must submit a written request to the State Director at the address indicated above within 91 days from the date of publication of this notice. Upon determination by the authorized officer that a public meeting will be held, a notice of the time and place will be published in the Federal Register at least 30 days before the scheduled date of the meeting.

The application will be processed in accordance with the regulations set forth in 43 CFR Part 2300.

For a period of two (2) years from the date of publication of this notice in the Federal Register, the lands will be segregated as specified above unless the application is denied or canceled or the withdrawal is approved prior to that date. The temporary land uses which may be permitted during this segregative period include licenses, permits, cooperative agreements, or discretionary land use authorizations, upon approval of the authorized officer of the Bureau of Land Management.

Dated: October 3, 2000.
Sherrie L. Reid,
Acting Chief, Branch of Realty and Records Services.

[FR Doc. 00-25966 Filed 10-6-00; 8:45 am]

BILLING CODE 4310-33-P